DEPARTMENT OF THE INTERIOR

Bureau of Land Management

[CA-660-02-1610-DT]

Notice of Availability of the Proposed California Desert Conservation Area Plan Amendment for the Coachella Valley, and the Final Environmental Impact Statement

AGENCY: Department of the Interior, Bureau of Land Management, California Desert District.

ACTION: Notice of Availability (NOA) of the Bureau of Land Management (BLM) Proposed California Desert Conservation Area (CDCA) Plan Amendment for the Coachella Valley (Coachella Valley Plan) and associated Final Environmental Impact Statement (FEIS), and initiation of the 30-day protest period.

SUMMARY: The Coachella Valley Plan amends the CDCA Plan for a 1.2 million-acre planning area encompassing the Coachella Valley, California. The BLM administers approximately 28 percent, or 330,516 acres, of the planning area. The Coachella Valley Plan is being developed in coordination with the Coachella Valley Association of Governments in support of their efforts to prepare a Coachella Valley Multiple-Species Habitat Conservation Plan (CVMSHCP).

The Coachella Valley Plan includes goals, objectives, and management prescriptions in accordance with the Federal Land Policy and Management Act of 1976 (FLPMA) for comprehensive management of desert ecosystems, including actions supporting recovery of ten species listed under the federal Endangered Species Act: Peninsular Ranges Bighorn Sheep (Ovis Canadensis nelsoni), Arroyo Toad (Bufo microscaphus californicus), Desert Pupfish (Cyprinodon macularius macularius), Desert Slender Salamander (Batrachoseps aridus), Desert Tortoise (Xerobates [or Gopherus] agassizii), Least Bell's Vireo (Vireo bellii pusillus), Southwestern Willow Flycatcher (Empidonax traillii extimus), Yuma Clapper Rail (Rallus longirostris yumanesis), Coachella Valley Milk Vetch (Astragalus lentiginousus coachellae), and Triple-ribbed Milk Vetch (Astragalus tricarinatus). The FEIS evaluates the Proposed Plan Amendments and three alternatives. The FEIS also includes public comments on the Draft Environmental Impact Statement (DEIS) and BLM's response to those comments.

DATES: The protest shall be in writing and shall be filed with the Director. The protest shall be filed within 30 days of the date the Environmental Protection Agency published the notice of receipt of the final EIS containing the plan or amendment in the Federal Register. For an amendment not requiring the preparation of an EIS, the protest shall be filed within 30 days of the publication of the notice of its effective date. The BLM will issue a press release citing the actual date for closure of the protest period when determined, including publication on the BLM California's Internet site. Instructions for filing protests are contained in the Coachella Valley Plan cover sheet just inside the front cover, and are included below under “Supplementary Information.”

ADDRESSES: Mailing address for filing a protest:

Regular mail—U.S. Department of the Interior, Director, Bureau of Land Management (210), Attn: Brenda Williams, P.O. Box 66538, Washington, DC 20035.

Overnight mail—U.S. Department of the Interior, Director, Bureau of Land Management (210), Attn: Brenda Williams, Telephone (202) 452-5045, 1620 “L” Street NW, Rm. 1075, Washington, DC 20036.

FOR FURTHER INFORMATION CONTACT: Jim Foote at (760) 251-4836 or jfoote@ca.blm.gov. Copies of the Coachella Valley Plan are being mailed to those who received the DEIS or provided comments on the DEIS. The document is available for review via the Internet at http://www.ca.blm.gov/palmsprings and is also available in hard copy at the following addresses and telephone numbers:

BLM, 690 West Garnet Ave., P.O. Box 581260, North Palm Springs, CA 92258; (760) 251-4800.

BLM, 6221 Box Springs Blvd., Riverside, CA 92507; (909) 697-5200.

SUPPLEMENTARY INFORMATION: Following are the instructions from Title 43 Code of Federal Regulations 1610.5-2 for filing protests:

(a) Any person who participates in the planning process and has an interest that is or may be adversely affected by the approval or amendment of a resource management plan may protest such approval or amendment. A protest may raise only those issues that were submitted for the record during the planning process.

(1) The protest shall be in writing and shall be filed with the Director. The protest shall be filed within 30 days of the date the Environmental Protection Agency published the notice of receipt of the final EIS containing the plan or amendment in the Federal Register. For an amendment not requiring the preparation of an EIS, the protest shall be filed within 30 days of the publication of the notice of its effective date.

(2) The protest shall contain:

(i) The name, mailing address, telephone number and interest of the person filing the protest;

(ii) A statement of the issue or issues being protested;

(iii) A statement of the part or parts of the plan or amendment being protested;

(iv) A copy of all documents addressing the issue or issues that were submitted during the planning process by the protesting party or an indication of the date the issue or issues were discussed for the record; and

(v) A concise statement explaining why the State Director's decision is believed to be wrong.

(3) The Director shall promptly render a decision on the protest. The decision shall be in writing and shall set forth the reasons for the decision. The decision shall be sent to the protesting party by certified mail, return receipt requested.

(b) The decision of the Director shall be the final decision for the Department of the Interior.

Dated: September 13, 2002.
James G. Kenna,
Field Manager.

[FR Doc. 02-26390 Filed 10-16-02; 8:45 am]

BILLING CODE 4310-40-P